DEPARTMENT OF HEALTH AND HUMAN SERVICES

Health Resources and Services Administration

Advisory Commission on Childhood Vaccines Meeting; Correction

AGENCY: Health Resources and Services Administration (HRSA), Department of Health and Human Services.

ACTION: Notice; correction.

SUMMARY: HRSA published a document in the Federal Register on February 26, 2024, setting forth the meeting schedule for the 2024 Advisory Commission on Childhood Vaccines (ACCV). The ACCV held two of its 2024 meetings on March 7, 2024, and March 8, 2024. The remaining two 2024 ACCV meetings originally scheduled for September 5, 2024, and September 6, 2024, are rescheduled for July 11, 2024, 12:30 p.m. ET—4:30 p.m. ET, and July 12, 2024, 12:00 p.m. ET—4:15 p.m. ET.

FOR FURTHER INFORMATION CONTACT: Pita Gomez, Principal Staff Liaison, Division of Injury Compensation Programs, HRSA, 5600 Fishers Lane, 8W-25A, Rockville, Maryland 20857; 800-338-2382; or ACCV@hrsa.gov.

SUPPLEMENTARY INFORMATION:

Correction

In the Federal Register of February 26, 2024, FR Doc. 2024-03824, page 14080, column 1, correct the Dates caption to read “The ACCV meetings will be held on:

• March 7, 2024, 1 p.m. ET—4 p.m. ET;

• March 8, 2024, 1 p.m. ET—4 p.m. ET;

• July 11, 2024, 12:30 p.m. ET—4:30 p.m. ET;

• July 12, 2024, 12:00 p.m. ET—4:15 p.m. ET.”

Maria G. Button,
Director, Executive Secretariat.

[FR Doc. 2024-11962 Filed 5-30-24; 8:45 am]

BILLING CODE 4165-15-P